DEPARTMENT OF THE INTERIOR

Bureau of Indian Affairs

Indian Gaming

AGENCY: Bureau of Indian Affairs, Interior.

ACTION: Notice of approved Tribal—State Class III Gaming Compact.

SUMMARY: This notice publishes the approval of the Tribal—State Compact between the Winnebago Tribe of Nebraska and the State of Iowa.

EFFECTIVE DATE: February 22, 2005.

FOR FURTHER INFORMATION CONTACT: George T. Skibine, Director, Office of Indian Gaming Management, Office of the Deputy Assistant Secretary—Policy and Economic Development, Washington, DC 20240, (202) 219-4066.

SUPPLEMENTARY INFORMATION: Under Section 11 of the Indian Gaming Regulatory Act of 1988 (IGRA), Public Law 100-497, 25 U.S.C. 2710, the Secretary of the Interior shall publish in the Federal Register notice of approved Tribal-State compacts for the purpose of engaging in Class III gaming activities on Indian lands. This Compact authorizes gaming conducted in accordance with IGRA and Iowa State law and clarifies the regulatory scheme.

Dated: February 9, 2005.
Michael D. Olsen,
Acting Principal Deputy Assistant Secretary—Indian Affairs.

[FR Doc. 05-3227 Filed 2-18-05; 8:45 am]

BILLING CODE 4310-4N-P